DEPARTMENT OF EDUCATION

[Docket No.: ED-2018-ICCD-0094]

Agency Information Collection Activities; Comment Request; Grantee Reporting Form—Rehabilitation Services Administration (RSA) Annual Payback Report

AGENCY: Office of Special Education and Rehabilitative Services (OSERS), Department of Education (ED).

ACTION: Notice.

SUMMARY: In accordance with the Paperwork Reduction Act of 1995, ED is proposing a revision of an existing information collection.

DATES: Interested persons are invited to submit comments on or before November 13, 2018.

ADDRESSES: To access and review all the documents related to the information collection listed in this notice, please use http://www.regulations.gov by searching the Docket ID number ED-2018-ICCD-0094. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9088, Washington, DC 20202-0023.

FOR FURTHER INFORMATION CONTACT: For specific questions related to collection activities, please contact Karen Holliday, 202-245-7318.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Grantee Reporting Form—Rehabilitation Services Administration (RSA) Annual Payback Report.

OMB Control Number: 1820-0617.

Type of Review: A revision of an existing information collection.

Respondents/Affected Public: Individuals or Households; Private Sector.

Total Estimated Number of Annual Responses: 11,790.

Total Estimated Number of Annual Burden Hours: 4,858.

Abstract: Under Section 302 of the Rehabilitation Act of 1973, as amended by the Workforce Innovation and Opportunity Act (WIOA), hereafter referred to as “The Act,” the RSA provides Long-Term Training grants to academic institutions to support scholarship assistance to scholars. Scholars who receive scholarships under this program are required to work within the public rehabilitation program, such as with a State vocational rehabilitation agency, or an agency or organization that has a service arrangement with a State vocational rehabilitation agency, in qualified employment fields, which include rehabilitation counseling, administration, supervision, teaching or research in vocational rehabilitation, supported employment, or independent living rehabilitation of individuals with disabilities, especially individuals with significant disabilities. The scholar is required to work two years in such settings for every year of full-time scholarship support. The service obligation for the scholar who matriculated part time, is based on the equivalent total of actual academic years of training received. The program regulations at 34 CFR 386.33-386.36 and 386.40-386.43 detail the payback provisions and the RSA scholars' requirements to comply with them.

Section 302 (b)(2)(C) of the Act requires that data on the employment of scholars are accurate, including tracking of scholars' employment status and location of former scholars supported under the RLTT grants in order to ensure that scholars are meeting the payback requirements.

In addition to meeting the requirement that all scholars be tracked, the data collected will provide performance data relevant to the rehabilitation fields and degrees pursued by RSA scholars, as well as the funds owed and the rehabilitation work completed by them. These data are used to assess program effectiveness and efficiency, and to meet the reporting requirements of the Government Performance and Results Act (GPRA).

RSA is requesting a revision of the currently approved collection for grantees (Institutions of Higher Education) to submit an Annual Payback Report through the online RSA Management Information System (MIS). To collect the needed data, RSA created the revised Payback Information Management System (PIMS). Through the PIMS grantees, scholars and employers report data electronically.

Dated: September 6, 2018.
Tomakie Washington,
Acting Director, Information Collection Clearance Division, Office of the Chief Privacy Officer, Office of Management.

[FR Doc. 2018-19745 Filed 9-11-18; 8:45 am]

BILLING CODE 4000-01-P